DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 219-9657. For information on HRSA's role in the Program, contact the Director, National Vaccine Injury Compensation Program, 5600 Fishers Lane, Room 8A-46, Rockville, MD 20857; (301) 443-6593.

SUPPLEMENTARY INFORMATION: The Program provides a system of no-fault compensation for certain individuals who have been injured by specified childhood vaccines. Subtitle 2 of title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on October 1, 2001, through December 28, 2001.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Vaccine Injury Compensation, Office of Special Programs, 5600 Fishers Lane, Room 8A-46, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Robin Reynolds on behalf of Tyler, Holcomb, Vienna, Virginia, Court of Federal Claims Number 01-0560V

2. Holly Vanderconck on behalf of Grant Vanderconck, Vienna, Virginia, Court of Federal Claims Number 01-0561V

3. Jill and Robert Simpson on behalf of Alexander Simpson, Vienna, Virginia, Court of Federal Claims Number 01-0562V

4. Lorna and Kenneth Kemper on behalf of Jared Stephen Kemper, Vienna, Virginia, Court of Federal Claims Number 01-0563V

5. Kelly McCord on behalf of Neave Ittman, Houston, Texas, Court of Federal Claims Number 01-0564V

6. Tiffany Bast on behalf of Makena Shaye Bast, Vienna, Virginia, Court of Federal Claims Number 01-0565V

7. Courtnay and Joseph Fuller on behalf of Emma Marie Fuller, Vienna, Virginia, Court of Federal Claims Number 01-0566V

8. Barbara Allore and Mathew Dame on behalf of Lawren K. Dame, Canton, Michigan, Court of Federal Claims Number 01-0567V

9. Wendy Small on behalf of Taylor Mackenzie Markum, Deceased, Jacksonville, Florida, Court of Federal Claims Number 01-0569V

10. Richelle Cain on behalf of Natascha Skerczak, Agoura Hills, California, Court of Federal Claims Number 01-0573V

11. Renee and Daniel Brovold on behalf of Ashley Dee Brovold, Fargo, North Dakota, Court of Federal Claims Number 01-0577V

12. Beulah Nix, Kotzebue, Alaska, Court of Federal Claims Number 01-0579V

13. Virginia Mitchell on behalf of Connor Mitchell, Boston, Massachusetts, Court of Federal Claims Number 01-0584V

14. Dawn Marquis on behalf of Justin Marquis, Boston, Massachusetts, Court of Federal Claims Number 01-0585V

15. Edward J. Anthony, Rocky Island, Illinois, Court of Federal Claims Number 01-0594V

16. Gayla and Brian Powers on behalf of Madeleine Powers, Decatur, Texas, Court of Federal Claims Number 01-0598V

17. Melissa and Jeffrey Reiland on behalf of Zachary Reiland, St. Clare, Minnesota, Court of Federal Claims Number 01-0599V

18. Melinda and Pete Sarullo on behalf of Sophia Isabella Sarullo, Clinton, Mississippi, Court of Federal Claims Number 01-0604V

19. Joy and Earl Dixon on behalf of Noah Matthew Dixon, Puyallup, Washington, Court of Federal Claims Number 01-0605V

20. Larry Monaco on behalf of Lawrence Monaco, Vienna, Virginia, Court of Federal Claims Number 01-0611V

21. Michelle Robinson on behalf of Jessica Mapes, Vienna, Virginia, Court of Federal Claims Number 01-0612V

22. Jackie Deliberis on behalf of Joshua Deliberis, Vienna, Virginia, Court of Federal Claims Number 01-0613V

23. Adriana Niazi, Vienna, Virginia, Court of Federal Claims Number 01-0617V

24. Bobbie Keylin on behalf of Ryan Keylin, Vienna, Virginia, Court of Federal Claims Number 01-0618V

25. Julie Conatzer on behalf of Billy Austin Conatzer, Vienna, Virginia, Court of Federal Claims Number 01-0619V

26. Mary Beth and David Niebler on behalf of Andrew David Niebler, Vienna, Virginia, Court of Federal Claims Number 01-0620V

27. DeCarla D. and Jeffrey Netterville on behalf of Addie Grace Netterville, Vienna, Virginia, Court of Federal Claims Number 01-0621V

28. Sharon A. Burke on behalf of Ryan C. Burke, Boston, Massachusetts, Court of Federal Claims Number 01-0624V

29. Betty Jean Morgan, Vienna, Virginia, Court of Federal Claims Number 01-0628V

30. Jolene Beville on behalf of Lara J. Beville, Bowling Green, Kentucky, Court of Federal Claims Number 01-0633V

31. Billie M. McDonald, Boise, Idaho, Court of Federal Claims Number 01-0635V

32. Karen Walcott on behalf of Dean Walcott, Boston, Massachusetts, Court of Federal Claims Number 01-0638V

33. Stephanie and Robert Sawyer on behalf of Sydney Noel Sawyer, Mobile, Alabama, Court of Federal Claims Number 01-0643V

34. Cheryl Ann and Keith William Hall on behalf of Alexander William Hall, Vienna, Virginia, Court of Federal Claims Number 01-0644V

35. Camilla and Patrick Thomas on behalf of Kenidi Dayna Thomas, Montgomery, Alabama, Court of Federal Claims Number 01-0645V

36. Brian Wayda on behalf of Jacob Patrick Wayda, Springfield, Virginia, Court of Federal Claims Number 01-0646V

37. Regina and Shannon Lemire on behalf of Destiny Lemire, Portland, Maine, Court of Federal Claims Number 01-0647V

38. Timothy Smith on behalf of Lydia Smith, Tanglewood, Mississippi, Court of Federal Claims Number 01-0651V

39. Mary Kathleen Carter on behalf of Kirby Carter, Hood River, Oregon, Court of Federal Claims Number 01-0652V

40. Albert G. Gurries, II, Sparks, Nevada, Court of Federal Claims Number 01-0656V

41. Mary Goings on behalf of James Goings, Jr., McMinnville, Oregon, Court of Federal Claims Number 01-0657V

42. Noreen McGuire on behalf of Brooke McGuire, Boston, Massachusetts, Court of Federal Claims Number 01-0658V

43. Xiujuan Wang and George Chou on behalf of Yuening Chou, Cambridge, Massachusetts, Court of Federal Claims Number 01-0659V

44. Deborah Delp on behalf of Rodney E. Delp, Jr., Boston, Massachusetts, Court of Federal Claims Number 01-0661V

45. Amy Brockelmeyer on behalf of Ashley Brockelmeyer, Boston, Massachusetts, Court of Federal Claims Number 01-0662V

46. James Don Easterling, Little Rock, Arkansas, Court of Federal Claims Number 01-0667V

47. Jason Saucier and Cleile Joy Scott on behalf of Avery Saucier, Metairie, Louisiana, Court of Federal Claims Number 01-0673V

48. Melissa Johnson on behalf of Evan Johnson, Vienna, Virginia, Court of Federal Claims Number 01-0675V

49. Andrea and Robert Kantor on behalf of Madelyn Kantor, Katonah, New York, Court of Federal Claims Number 01-0679V

50. Deborah Mikelson on behalf of Kali Mikelson, Fort Dodge, Iowa, Court of Federal Claims Number 01-0681V

51. Robert Welch, Des Moines, Iowa, Court of Federal Claims Number 01-0682V

52. Jeanne Pellegrino on behalf of Michael Pellegrino, Boston, Massachusetts, Court of Federal Claims Number 01-0684V

53. Jeff Leed on behalf of Tyler Scott Leed, Vienna, Virginia, Court of Federal Claims Number 01-0686V

54. Lavilla Aileen Campbell, Allen, Kentucky, Court of Federal Claims Number 01-0688V

55. Debra and Scott Hippensteel on behalf of Ryan Scott Hippensteel, Allentown, Pennsylvania, Court of Federal Claims Number 01-0690V

56. Laura and Stanley Foss on behalf of Jacob Kenneth Foss, Gorham, Maine, Court of Federal Claims Number 01-0691V

57. Alma Guadalupe Rojas, Los Angeles, California, Court of Federal Claims Number 01-0692V

58. Henry Stein on behalf of Michael Stein, Boston, Massachusetts, Court of Federal Claims Number 01-0693V

59. Brooke Anna Childers, Ely, Nevada, Court of Federal Claims Number 01-0694V

60. Bridget and Jerome Wanecski on behalf of Emily Brooke Wanecski, Sarasota, Florida, Court of Federal Claims Number 01-0695V

61. Sonia Suarez, Vienna, Virginia, Court of Federal Claims Number 01-0700V

62. Malissa Evans on behalf of Jeremiah William Evans, Vienna, Virginia, Court of Federal Claims Number 01-0701V

63. Claire Serowinski on behalf of Ryan Serowinski, Vienna, Virginia, Court of Federal Claims Number 01-0702V

64. Otilia Sullivan on behalf of Justin Sullivan, Vienna, Virginia, Court of Federal Claims Number 01-0703V

65. Lawrence Hobbs on behalf of Samuel Hobbs, Vienna, Virginia, Court of Federal Claims Number 01-0704V

66. Maryann and Michael Zezulak on behalf of Michael Scott Zezulak, Jr., Vienna, Virginia, Court of Federal Claims Number 01-0705V

67. Jean Steele on behalf of Paul W. Steele, Vienna, Virginia, Court of Federal Claims Number 01-0706V

68. Michael Stephen Shaw, San Francisco, California, Court of Federal Claims Number 01-0707V

69. Shirley Allen, Tylertown, Mississippi, Court of Federal Claims Number 01-0716V

70. Sharon Bubb, Boston, Massachusetts, Court of Federal Claims Number 01-0721V

71. Francesca Walkiewicz on behalf of Samuel Walkiewicz, Boston, Massachusetts, Court of Federal Claims Number 01-0722V

Dated: March 5, 2002.
Elizabeth M. Duke,
Acting Administrator.

[FR Doc. 02-5841 Filed 3-11-02; 8:45 am]

BILLING CODE 4165-15-P